DEPARTMENT OF JUSTICE

Parole Commission

Sunshine Act Meeting

TIME AND DATE: 10 a.m., June 2, 2014.

PLACE: U.S. Parole Commission, 90 K Street NE., 3rd Floor, Washington, DC.

STATUS: Open.

MATTERS TO BE CONSIDERED: Approval of February 24, 2015 minutes; Final rule to amend 28 CFR 2.66; Parole Guidelines for DC Code prisoners.

CONTACT PERSON FOR MORE INFORMATION: Jacqueline Graham, Staff Assistant to the Chairman, U.S. Parole Commission, 90 K Street NE., 3rd Floor, Washington, DC 20530, (202) 346-7001.

Dated: May 22, 2015.
J. Patricia W. Smoot,
Acting Chairman, U.S. Parole Commission.

[FR Doc. 2015-12902 Filed 5-22-15; 4:15 pm]

BILLING CODE 4410-31-P